SMALL BUSINESS ADMINISTRATION

[Disaster Declaration #12142 and #12143]

Connecticut Disaster Number CT-00015

AGENCY: Small Business Administration.

ACTION: Amendment 1.

SUMMARY: This is an amendment of the Presidential declaration of a major disaster for Public Assistance Only for the State of Connecticut (FEMA-1904-DR), dated 04/23/2010.

Incident: Severe Storms and Flooding.

Incident Period: 03/12/2010 through 05/17/2010.

DATES: Effective Date: 05/17/2010.

Physical Loan Application Deadline Date: 06/22/2010.

Economic Injury (EIDL) Loan Application Deadline Date: 01/24/2011.

ADDRESSES: Submit completed loan applications to: Small Business Administration, Processing and Disbursement Center, 14925 Kingsport Road, Fort Worth, TX 76155.

FOR FURTHER INFORMATION CONTACT: A. Escobar, Office of Disaster Assistance, Small Business Administration, 409 3rd Street, SW., Suite 6050, Washington, DC 20416.

SUPPLEMENTARY INFORMATION: The notice of the President's major disaster declaration for Private Non-Profit organizations in the State of Connecticut, dated 04/23/2010, is hereby amended to establish the incident period for this disaster as beginning 03/12/2010 and continuing through 05/17/2010.

All other information in the original declaration remains unchanged.

(Catalog of Federal Domestic Assistance Numbers 59002 and 59008)

James E. Rivera,
Associate Administrator for Disaster Assistance.

[FR Doc. 2010-12593 Filed 5-25-10; 8:45 am]

BILLING CODE 8025-01-P